DEPARTMENT OF VETERANS AFFAIRS

38 CFR Part 2

RIN 2900-AL61

Delegations of Authority; Office of Regulation Policy and Management (ORPM)

AGENCY: Department of Veterans Affairs.

ACTION: Final rule.

SUMMARY: This document sets forth a delegation of authority to the Assistant to the Secretary for Regulation Policy and Management to manage and coordinate the Department of Veterans Affairs' (VA) rulemaking process. The delegation is necessary to transfer certain rulemaking responsibilities to the newly-formed Office of Regulation Policy and Management in the Office of the Secretary. The delegation of authority is intended to improve the organization, clarity, and timeliness of VA regulations through centralized management and control. This document also makes minor technical amendments to a current delegation of authority that concerns the provision of relief on account of administrative error.

DATES: Effective Date: May 13, 2003.

FOR FURTHER INFORMATION CONTACT: Robert C. McFetridge, Director, Regulations Management (00REG1), Department of Veterans Affairs, 810 Vermont Avenue, NW., Washington, DC, 20420 telephone (202) 273-9215.

SUPPLEMENTARY INFORMATION: The Secretary of Veterans Affairs has established an Office of Regulation Policy and Management (ORPM) to provide centralized management and coordination of the Department of Veterans Affairs' (VA) rulemaking process. The office is led by an Assistant to the Secretary for Regulation Policy and Management (ASRPM), who is responsible for improving existing VA regulations and establishing procedures to ensure future regulations can be more easily read, understood, and applied. The delegation of authority contained in this final rule will permit the ASRPM to manage and coordinate the VA's rulemaking process.

The ASRPM is performing two major functions for the Department. First, he is leading the VA's Regulation Rewrite Project. The Regulation Rewrite Project (the Project) is a comprehensive effort to improve the clarity and consistency of existing VA regulations. Currently, the Project is reviewing, reorganizing, and redrafting over 275 regulations in 38 CFR Part 3. These Compensation and Pension regulations are among the most difficult VA regulations for readers to understand and apply. Approximately 15 VA employees, temporarily detailed to the Project from the Office of General Counsel; Veterans Benefits Administration, Compensation and Pension Service; and Board of Veterans Appeals, are working in rotating teams seeking to complete this assignment over a 2-year period. The Secretary created the Project to respond to the Secretary's VA Claims Processing Task Force (Task Force) recommendation that Compensation and Pension regulations needed to be rewritten and reorganized in order to improve the VA's claims process. The Task Force found that “the problems identified 20 years ago remain today, and the promise to correct them is unfulfilled.” The Task Force further recommended that the task of reorganizing and simplifying VA regulations “should be an immediate priority.” Consequently, the Secretary is delegating responsibility to the ASRPM to manage the Department's revision and reorganization of VA regulations.

Second, the ASRPM is responsible for devising and implementing new procedures to centralize control and improve Secretarial oversight, management, drafting efficiency, policy resolution, impact analysis, and coordination of diverse VA regulations. In the past, VA rulemaking procedures have varied among the Department's three major administrations, the Veterans Health Administration, the Veterans Benefits Administration, and the National Cemetery Administration, and among the Department's staff offices. The Secretary approved the creation of ORPM to serve as the centralized rulemaking policy and management structure in the Office of the Secretary. In this document, the Secretary is delegating authority to the ASRPM to manage and coordinate the Department's rulemaking activities.

As an Assistant to the Secretary, the ASRPM will help the Secretary integrate and resolve significant policy issues affecting VA regulations early in the drafting process. The ASRPM will serve as the Executive Secretary to the Secretary's Regulatory Policy Council (the Council), which will ensure that the Department's rulemaking proposals support the Secretary's priorities for assisting America's veterans. The Council will consist of the Secretary, the Deputy Secretary, the Under Secretary for Health, the Under Secretary for Benefits, the Under Secretary for Memorial Affairs, and other senior officials who will serve as advisory members on an ad hoc basis when necessary to address specific issues.

The Secretary also is designating the ASRPM as the Department's Regulatory Policy Officer in accordance with Executive Order 12866. Section 6(a) of the Executive Order requires Federal agencies to designate a Regulatory Policy Officer who shall report to the agency head. The Regulatory Policy Officer is to be involved in each stage of the regulatory process to foster the development of effective, innovative, and least burdensome regulations and to further the principles set forth in the Executive Order. With the establishment of ORPM, the ASRPM is assuming those responsibilities from the General Counsel.

This document also makes minor technical amendments to 38 CFR 2.7, which is a delegation of authority that concerns the provision of relief on account of administrative error.

Administrative Procedure Act

This document is being published as a final rule pursuant to 5 U.S.C. 553, which excepts matters pertaining to internal agency management and personnel from its notice, comment, and delayed effective date requirements.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This final rule will have no consequential effect on State, local, or tribal governments.

Paperwork Reduction Act

This document contains no provisions constituting a collection of information under the Paperwork Reduction Act (44 U.S.C. 3501-3521).

Regulatory Flexibility Act

The Secretary hereby certifies that this regulatory amendment will not have a significant economic impact on a substantial number of small entities as they are defined in the Regulatory Flexibility Act, 5 U.S.C. 601-612. This amendment would not directly affect any small entities. Only individuals could be directly affected. Therefore, pursuant to 5 U.S.C. 605(b), this amendment is exempt from the initial and final regulatory flexibility analysis requirements of sections 603-604.

Catalog of Federal Domestic Assistance

There are no Catalog of Federal Domestic Assistance program numbers for this rule.

List of Subjects in 38 CFR Part 2

Authority delegations (Government agencies).

Approved: May 2, 2003.
Anthony J. Principi,
Secretary of Veterans Affairs.

For the reasons set forth in the preamble, 38 CFR part 2 is amended as follows:

PART 2—DELEGATIONS OF AUTHORITY

1. The authority citation for part 2 continues to read as follows:

Authority: 5 U.S.C. 302, 552a; 38 U.S.C. 501, 512, 515, 1729, 1729A, 5711; 44 U.S.C. 3702, unless otherwise noted.

2. Section 2.6 is amended by adding paragraph (l) and an authority citation at the end of the section to read as follows:

§ 2.6 Secretary's delegations of authority to certain officials (38 U.S.C. 512).

* * * * *

(l) Assistant to the Secretary, Office of Regulation Policy and Management. The Assistant to the Secretary for Regulation Policy and Management (ASRPM) is delegated authority:

(1) To act on all matters assigned to the Office of Regulation Policy and Management, except such matters as require the personal attention or action of the Secretary or the Secretary's Regulatory Policy Council.

(2) To manage and coordinate the Department's rulemaking activities, including the revision and reorganization of regulations.

(3) To serve as the Regulatory Policy Officer for the Department's rulemaking activities in accordance with Executive Order 12866.

(Authority: 38 U.S.C. 501, 512)

3. Section 2.7 is amended by:

A. In the first sentence of paragraph (b), removing “210(c)(3)” and adding, in its place, “503(b)” and removing “widow” and adding, in its place, “surviving spouse”.

B. Adding an authority citation at the end of the section.

The addition reads as follows:

§ 2.7 Delegation of authority to provide relief on account of administrative error.

* * * * *

(Authority: 38 U.S.C. 503, 512)

[FR Doc. 03-11844 Filed 5-12-03; 8:45 am]

BILLING CODE 8320-01-U